DEPARTMENT OF HEALTH AND HUMAN SERVICES

National Institutes of Health

Approaches to Effective Therapeutic Management of Pain for People With Sickle Cell Disease

AGENCY: National Institutes of Health, HHS.

ACTION: Notice.

SUMMARY: This NCCIH/NHLBI-led Trans-NIH workshop on Sickle Cell Disease Pain aims to explore critical gaps and research challenges, as well as to brainstorm potential solutions for this understudied pain condition in a highly underserved population. This fits into the NIH mission of seeking fundamental knowledge to enhance health.

DATES: The Meeting will be held on July 21-22, 2021, from 11:30 a.m. to 5:30 p.m. (ET).

ADDRESSES: This workshop will be videocast.

FOR FURTHER INFORMATION CONTACT: For information concerning this meeting, see https://www.nccih.nih.gov/news/events/approaches-to-effective-therapeutic-management-of-pain-for-people-with-sickle-cell-disease or contract Dr. Inna Belfer, Division of Extramural Research, National Center for Complementary and Integrative Health, 6707 Democracy Boulevard, Suite 401, Bethesda, MD 20892, telephone: 240-422-0636, email: inna.belfer@nih.gov.

SUPPLEMENTARY INFORMATION: In accordance with the Public Health Service Act 42 U.S.C. 287c-21 et seq. This workshop is led by the National Center for Complementary and Integrative Health (NCCIH) and the National Heart, Lung, and Blood Institute (NHLBI) in collaboration with the Eunice Kennedy Shriver National Institute of Child Health and Human Development (NICHD), National Institute on Drug Abuse (NIDA), National Institute on Minority Health and Health Disparities (NIMHD), National Institute of Neurological Disorders and Stroke (NINDS), and National Institute of Nursing Research (NINR). The workshop is free and open to the public. The workshop will be livestreamed, and the video will be archived. You can register for this meeting at https://www.eventbrite.com/e/trans-nih-workshop-on-sickle-cell-disease-pain-tickets-154427600109.

Helene M. Langevin,
Director, National Center for Complementary and Integrative Health, National Institutes of Health.

[FR Doc. 2021-14921 Filed 7-13-21; 8:45 am]

BILLING CODE 4140-01-P